DEPARTMENT OF HEALTH AND HUMAN SERVICES

Centers for Disease Control and Prevention

[60Day-10-10AE]

Proposed Data Collections Submitted for Public Comment and Recommendations

In compliance with the requirement of Section 3506 (c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Malaria Pre-travel Advice: Knowledge and Practices Among US Healthcare Providers Whose Patients Develop Malaria—New—National Center for Zoonotic, Vector-Borne, and Enteric Diseases/Division of Parasitic Diseases/Malaria Branch (NCZVED/DPD/MB), Centers for Disease Control and Prevention (CDC)

Background and Brief Description

In 2007, there were 1505 cases of malaria reported in the US and its territories. Except for one transfusion-related case, all cases in 2007 were imported. Almost all of the imported malaria cases could have been prevented with appropriate malaria prophylactic drug regimens. Achieving appropriate malaria prophylaxis requires knowledge and action by both the traveler and healthcare provider (HCP). There are limited studies on HCP knowledge and practices regarding malaria prophylaxis. We propose an activity to better define the types of HCPs giving pre-travel advice about malaria, their knowledge gaps regarding malaria, and their barriers to appropriate prescription of malaria prophylaxis.

All U.S. travelers with malaria reported in 2010 and their healthcare providers (if one was seen) who provided pre-travel advice will be interviewed by phone. Interviews will take no longer than 15 minutes. Questions to be asked of patients include demographics, knowledge of malaria risks, and use of prophylaxis during their travel. HCPs will be asked about their training, practice type, and knowledge of malaria risk and prevention. Univariate analysis will be done to describe characteristics of HCPs who give inappropriate prescriptions for malaria prophylaxis. Bivariate and multivariate analysis is planned to examine the association between various HCP characteristics and provision of inappropriate (or no) malaria prophylaxis. Findings from this activity will help CDC's malaria branch with the development and targeting of educational materials for HCPs regarding malaria in travelers. Information gathered will also guide content of educational and review articles to be published in journals most often read by target HCPs.

There is no cost to respondents.

Estimated Annualized Burden Hours
Respondents | Number of respondents | Number of responses per respondent | Average burden per response (in hours) | Total burden (in hours)
Patients ≥18 | 350 | 1 | 0.25 | 87.5
Parents of patients <18 | 88 | 1 | 0.25 | 22
Healthcare providers | 438 | 1 | 0.25 | 109.5
Total |  |  |  | 219

Dated: November 2, 2009.
Marilyn S. Radke,
Reports Clearance Officer, Centers for Disease Control and Prevention.

[FR Doc. E9-26935 Filed 11-6-09; 8:45 am]

BILLING CODE 4163-18-P